DEPARTMENT OF COMMERCE

International Trade Administration

[C-489-502]

Certain Welded Carbon Steel Pipe and Tube and Welded Carbon Steel Line Pipe From Turkey: Amended Final Results of Countervailing Duty Administrative Reviews in Accordance With Decision Upon Remand

AGENCY: Import Administration, International Trade Administration, Department of Commerce.

ACTION: Notice of Amendment to Final Results of Countervailing Duty Administrative Reviews in Accordance with Decision Upon Remand.

SUMMARY: On July 5, 2000, the United States Court of International Trade (CIT) affirmed the Department of Commerce's (the Department) Final Results of Redetermination on Remand Pursuant to Mannesmann-Sumerbank Boru Endustrisi T.A.S. v. United States, Slip Op. 00-50 (CIT May 3, 2000), (Slip Op. 00-74). These Final Results apply to the Department's countervailing duty administrative reviews of the countervailing duty orders on certain welded carbon steel pipe and tube and welded carbon steel line pipe from Turkey covering the period January 1, 1996 through December 31, 1996. In accordance with the CIT's instructions, the Department has recalculated the subsidy rates using a sales denominator inclusive of exchange rate gains and losses.

EFFECTIVE DATE: October 18, 2000.

FOR FURTHER INFORMATION CONTACT: Stephanie Moore or Michael Grossman, AD/CVD Enforcement Office VI, Group II, Import Administration, U.S. Department of Commerce, Room 4012, 14th Street and Constitution Avenue, NW., Washington, DC 20230; telephone (202) 482-2786.

SUPPLEMENTARY INFORMATION: On April 16, 1998, the Department published in the Federal Register (63 FR 18885) the final results and partial rescission of its administrative reviews of the countervailing duty orders on certain welded carbon steel pipe and tube and welded carbon steel line pipe from Turkey for the period January 1, 1996 through December 31, 1996. Subsequently, respondents challenged the Department's final results before the CIT regarding the Department's determination to calculate the benefits from the freight rebate program at the time of receipt, and the Department's methodology of excluding foreign exchange gains, “kur farki,” from the denominator of the subsidy equation.

In the 1996 administrative reviews of the countervailing duty orders, the Department determined that benefits from the freight rebate program are bestowed at the time of receipt. The Department also determined that foreign exchange gains should be excluded from the sales denominators because foreign exchange gains are not income that is derived from sales, but income from fluctuations of the relative value of the dollar versus the Turkish Lira. Therefore, the Department excluded foreign exchange gains from the sales denominators.

On December 23, 1999, the CIT affirmed the Department's determination regarding the freight rebate program. However, the CIT remanded to the Department to either include foreign exchange gains in the denominator of the subsidy margin calculation or provide an adequate explanation of how this case differs from prior determinations, where the subsidy margin calculation was performed in this manner. The CIT also stated that if the Department took the latter course of action, it must also explain why Turkish generally accepted accounting principles (GAAP) and respondents' accounting methods are unreliable and distortive. See Mannesmann-Sumerbank Boru Endustrisi T.A.S. v. United States, 86 F. Supp. 2d 1266, 1275 (CIT 1999). In accordance with that remand order, on March 17, 2000, the Department submitted its first Final Results of Redetermination on Remand, which explained how the prior determinations cited by the court reflected a practice no longer ascribed to by the Department, and why Turkish GAAP and the respondents' accounting methods are irrelevant in regards to the issue at hand.

The CIT, in its May 3, 2000, decision found that the Department's explanation failed to substantiate its practice or its reasonableness, and remanded to the Department to recalculate the subsidy rates using a sales denominator inclusive of exchange rate gains and losses. (Slip Op. 00-50). On June 2, 2000, the Department recalculated the subsidy rates using a sales denominator inclusive of exchange rate gains and losses, as instructed by the CIT. On July 5, 2000, the CIT sustained the Department's second Final Results of Redetermination on Remand. (Slip Op. 00-74).

Results of Remand

In accordance with the court's second remand instructions, the Department has recalculated the benefits under each program, and the company-specific total ad valorem rates for the 1996 period. Therefore, we are amending the final results of administrative reviews.

The final countervailing duty rates for the 1996 period of review are as follows:

Manufacturer/exporter of line pipe | Ad valorem rate
Mannesmann-Sumerbank | 3.75%

Manufacturer/exporter of pipe and tube | Ad valorem rate
Borusan Group | 2.85%

The Department will instruct the Customs Service to assess countervailing duties on all appropriate entries. The Department will issue liquidation instructions directly to the Customs Service. The above rates will not affect the cash deposit requirements for pipe and tube currently in effect, which will continue to be based on the rates found to exist in the most recently completed review. The order on line pipe was revoked effective January 1, 2000, pursuant to section 751(c) of the Tariff Act, as amended. See Notice of Final Results of Sunset Review and Revocation of Countervailing Duty Order: Welded Carbon Steel Line Pipe from Turkey, 64 FR 30305 (June 7, 1999).

This amendment to the final results of countervailing duty administrative reviews notice is in accordance with section 751(a)(1) of the Tariff Act, as amended, (19 U.S.C. 1675 (a)(1)), 19 CFR 351.213, and 19 CFR 351.221(b)(5).

Dated: October 10, 2000.
Troy H. Cribb,
Acting Assistant Secretary for Import Administration.

[FR Doc. 00-26763 Filed 10-17-00; 8:45 am]

BILLING CODE 3510-DS-P